NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by January 20, 2023. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2023-026

1. Applicant:Michael Raabe, Leidos Innovations Group, Antarctic Support Contract, 7400 S Tucson Way, Centennial, CO. environmental@usap.gov.

Activity for Which Permit is Requested:Enter Antarctic Specially Protected Area. The applicant seeks an ACA permit for the purposes of marine transit of U.S. Antarctic Program chartered vessels through Antarctic Specially Protected Areas (ASPA) 145, 152, and 153. The permit would be used solely for marine transit and not for any scientific activity within these ASPAs. Marine transit would occur so long as the values to be protected within each ASPA are not jeopardized and would only occur as necessary in the best interests of the U.S. Antarctic Program. The ASPAs would be avoided whenever possible.

Location: ASPA 145—Port Foster, Deception Island, South Shetland Islands; ASPA 152—Western Bransfield Strait; ASPA 153—Eastern Dallmann Bay.

Dates of Permitted Activities: February 1, 2023-January 31, 2028.

Permit Application: 2023-027

2. Applicant: Michael Raabe, Leidos Innovations Group, Antarctic Support Contract, 7400 S Tucson Way, Centennial, CO. environmental@usap.gov.

Activity for Which Permit is Requested: Enter Antarctic Specially Protected Area. The applicant seeks an ACA permit for the purposes of recreational and educational visits to several historic huts in the vicinity of McMurdo Station. Visits would occur at Scott's hut at Cape Evans (ASPA 155), Shackleton's hut at Cape Royds (ASPA 157), Scott's Discovery hut at Hut Point (ASPA 158), and at Cape Adare (ASPA 159). Access to sites would be by tracked vehicle, helicopter, or on foot as appropriate. All visits would be conducted in accordance with the management plan for each specific site. Procedures for monitoring numbers of U.S. Antarctic Program visitors throughout the season would be implemented.

Location: ASPA 155—Cape Evans, Ross Island; ASPA 157—Backdoor Bay, Cape Royds, Ross Island; ASPA 158—Hut Point, Ross Island; ASPA 159—Cape Adare, Borchgrevink Coast.

Dates of Permitted Activities:February 1, 2023-January 31, 2028.

Permit Application: 2023-028

3. Applicant Michael Raabe, Leidos Innovations Group, Antarctic Support Contract, 7400 S Tucson Way, Centennial, CO. environmental@usap.gov.

Activity for Which Permit is Requested: Enter Antarctic Specially Protected Area. The applicant seeks an ACA permit for the purposes of entering Antarctic Specially Protected Areas (ASPA) to gather professional video footage, still photographs, and to interview scientists in support of National Science Foundation (NSF) directed news and public outreach projects and releases. Visits would occur to ASPAs in conjunction with valid scientific activities for the express purposes of gathering footage and information on scientific research, general scenic locations, and interviews with scientists working in the field. Within historic huts, only tripods or monopods with flat bottomed rubber bases would be used. All visits would be conducted in accordance with the management plan for each specific site.

Location: ASPA 105—Beaufort Island, McMurdo Sound, Ross Sea; ASPA 113—Litchfield Island, Arthur Harbor, Anvers Island, Palmer Archipelago; ASPA 116—New College Valley, Caughley Beach, Cape Bird, Ross Island; ASPA 121—Cape Royds, Ross Island; ASPA 124—Cape Crozier, Ross Island; ASPA 131—Canada Glacier, Lake Fryxell, Taylor Valley, Victoria Land; ASPA 138—Linnaeus Terrace, Asgard Range, Victoria Land; ASPA 139—Biscoe Point, Anvers Island, Palmer Archipelago; ASPA 155—Cape Evans, Ross Island; ASPA 157—Backdoor Bay, Cape Royds, Ross Island; ASPA 158—Hut Point, Ross Island; ASPA 172—Lower Taylor Glacier and Blood Falls, Taylor Valley, McMurdo Dry Valleys, Victoria Land.

Dates of Permitted Activities: February 1, 2023-January 31, 2028.

Permit Application: 2023-029

4. Applicant: Michael Raabe, Leidos Innovations Group, Antarctic Support Contract, 7400 S. Tucson Way, Centennial, CO. environmental@usap.gov.

Activity for Which Permit is Requested: Take, Harmful Interference. The applicant seeks an ACA permit for take and harmful interference for the purposes of herding native mammal and bird species away from aircraft runways, roads, and the ice pier at McMurdo Station, or the pier and general station area at Palmer Station to protect operational safety and prevent potential harm to the animals. Herding activities would be conducted in accordance with procedures using humane and non-lethal techniques to move animals while causing as little disturbance to the animals as possible. Individuals tasked with herding would be specifically trained in the herding techniques and procedures. Most commonly encountered wildlife at McMurdo Station includes Weddell seals, Adelie penguins, Emperor penguins, and South Polar skuas. Most commonly encountered wildlife at Palmer Station includes Elephant seals, Antarctic fur seals, Crabeater seals, Adelie penguins, Gentoo penguins, Chinstrap penguins, and Brown skuas.

Location: McMurdo Station, Ross Sea; Palmer Station, Anvers Island, Antarctic Peninsula Area.

Dates of Permitted Activities: February 1, 2023-January 31, 2028.

Permit Application: 2023-030

5. Applicant: Michael Raabe, Leidos Innovations Group, Antarctic Support Contract, 7400 S. Tucson Way, Centennial, CO. environmental@usap.gov.

Activity for Which Permit is Requested: Enter Antarctic Specially Protected Area. The applicant seeks an ACA permit for entry into Arrival Heights, Antarctic Specially Protected Area (ASPA) 122 for ongoing scientific work by U.S. Antarctic Program principal investigators and their teams. Additionally Antarctic Support Contract (ASC) personnel would need access to the site daily for equipment monitoring, data acquisition, calibrations, and repairs. Official scientific visitors would also enter the site for educational and oversight purposes. Other ASC personnel may be called upon to perform inspections, maintenance, fueling, or repair functions at facilities within the ASPA. Environmental representatives may enter the site to observe and determine whether modifications to the management plan are warranted. All visits would be conducted in accordance with the management plan for each specific site.

Location: ASPA 122—Arrival Heights, Hut Point Peninsula, Ross Island.

Dates of Permitted Activities: February 1, 2023-January 31, 2028.

Permit Application: 2023-031

6. Applicant: Michael Raabe, Leidos Innovations Group, Antarctic Support Contract, 7400 S Tucson Way, Centennial, CO. environmental@usap.gov.

Activity for Which Permit is Requested: Enter Antarctic Specially Protected Area. The applicant seeks an ACA permit for the purposes of entering Antarctic Specially Protected Areas (ASPA) to support National Science Foundation (NSF) funded U.S. Antarctic Program science operations accessed using small boats from U.S. Antarctic Program research vessels or from Palmer Station. The ASPAs that would be entered are locations of routine support by Antarctic Support Contract station staff and marine technicians who commonly aid in transport, field camp put-in and take-out in support of science at these locations. Personnel would only enter ASPAs in support of science expeditions which would obtain separate ACA permits for entry to, and work within each specific ASPA. All visits would be conducted in accordance with the management plan for each specific site.

Location: ASPA 113—Litchfield Island, Arthur Harbor, Anvers Island, Palmer Archipelago; ASPA 117—Avian Island, Marguerite Bay, Antarctic Peninsula; ASPA 126—Byers Peninsula, Livingston Island; ASPA 128—Western Shore of Admiralty Bay, King George Island, South Shetland Islands; ASPA 139—Biscoe Point, Anvers Island, Palmer Archipelago; ASPA 149—Cape Shirreff and San Telmo Island, Livingston Island, South Shetland Islands; ASPA 161—Terra Nova Bay, Ross Sea; ASPA 173—Cape Washington and Silverfish Bay, Terra Nova Bay, Ross Sea.

Dates of Permitted Activities: February 1, 2023-January 31, 2028.

Permit Application: 2023-032

7. Applicant: Michael Raabe, Leidos Innovations Group, Antarctic Support Contract, 7400 S Tucson Way, Centennial, CO. environmental@usap.gov.

Activity for Which Permit is Requested: Introduce Non-Indigenous Species into Antarctica. The applicants seeks an ACA permit to introduce non-indigenous species into Antarctica for the purposes of wastewater treatment at McMurdo Station. The applicant would introduce commercially available, proprietary bacteria supplement D500A for municipal wastewater treatment plants, for use at the wastewater treatment plant at McMurdo Station, Antarctica. Benefits include better sludge settling, better dewatering, control of surface foam and filamentous growth, reduction of total sludge volume, and improved wastewater plant performance. Bacteria would not be released into the environment. Once expired, bacteria are captured in wastewater treatment plant solids that are retrograded to the United States. Effluent from the treatment plant is treated with UV sterilization before discharge.

Location: McMurdo Station, Ross Sea.

Dates of Permitted Activities: February 1, 2023-January 31, 2028.

Permit Application: 2023-033

8. Applicant: Michael Raabe, Leidos Innovations Group, Antarctic Support Contract, 7400 S Tucson Way, Centennial, CO. environmental@usap.gov.

Activity for Which Permit is Requested: Enter Antarctic Specially Protected Area. The applicant seeks an ACA permit for the purposes of entering Antarctic Specially Protected Areas (ASPA) to support National Science Foundation (NSF) funded U.S. Antarctic Program science operations. Antarctic Support Contract Operations and support personnel are required to conduct occasional operations, maintenance, construction, and rehabilitation activities in support of U.S. Antarctic Program science at designated ASPAs in the Ross Sea region. ASPAs in this region are generally accessed via helicopter, thus a helicopter pilot and helicopter technician would accompany the operations personnel. No structures or scientific equipment would be erected within the ASPAs except as specified in separate science project specific ACA permits. All visits would be conducted in accordance with the management plan for each specific site.

Location: ASPA 121—Cape Royds, Ross Island; ASPA 124—Cape Crozier, Ross Island; ASPA 131—Canada Glacier, Lake Fryxell, Taylor Valley, Victoria Land; ASPA 137—North-West White Island, McMurdo Sound; ASPA 138—Linnaeus Terrace, Asgard Range, Victoria Land; ASPA 172—Lower Taylor Glacier and Blood Falls, Taylor Valley, McMurdo Dry Valleys, Victoria Land; ASPA 175—High Altitude Geothermal sites of the Ross Sea Region.

Dates of Permitted Activities: February 1, 2023-January 31, 2028.

Permit Application: 2023-034

9. Applicant: Michael Raabe, Leidos Innovations Group, Antarctic Support Contract, 7400 S Tucson Way, Centennial, CO. environmental@usap.gov.

Activity for Which Permit is Requested:Enter Antarctic Specially Protected Area. The applicant seeks an ACA permit for the purposes of entering Antarctic Specially Protected Areas (ASPA) to support National Science Foundation (NSF) environmental management responsibilities under Annex V of the Protocol on Environmental Protection to the Antarctic Treaty. A review of Antarctic Specially Protected Area (ASPA) management plans must be initiated at least every five years to; gather up to date information on site status; verify that the reasons for special protection remain valid; verify that the values being protected are being maintained; verify that the management measures in place are sufficient to provide protection; and recommend and management measures that may be necessary to maintain the values being protected. Antarctic Support Contract Environmental Engineering personnel would enter the listed ASPAs to collect information in support of 5-year ASPA management plan reviews, for general management and maintenance concerns, and to address any environmental concern or potential release within the ASPA. All visits would be conducted in accordance with the management plan for each specific site.

Location:ASPA 105—Beaufort Island, McMurdo Sound, Ross Sea; ASPA 106—Cape Hallett, Northern Victoria Land, Ross Sea; ASPA 113—Litchfield Island, Arthur Harbor, Anvers Island, Palmer Archipelago; ASPA 121—Cape Royds, Ross Island; ASPA 123—Barwick and Balham Valleys, Southern Victoria Land; ASPA 124—Cape Crozier, Ross Island; ASPA 128—Western Shore of Admiralty Bay, King George Island, South Shetland Islands; ASPA 131—Canada Glacier, Lake Fryxell, Taylor Valley, Victoria Land; ASPA 137—North-West White Island, McMurdo Sound; ASPA 138—Linnaeus Terrace, Asgard Range, Victoria Land; ASPA 139—Biscoe Point, Anvers Island, Palmer Archipelago; ASPA 149—Cape Shirreff and San Telmo Island, Livingston Island, South Shetland Islands; ASPA 154—Botany Bay, Cape Geology, Victoria Island; ASPA 172—Lower Taylor Glacier and Blood Falls, Taylor Valley, McMurdo Dry Valleys, Victoria Land; ASPA 175—High Altitude Geothermal sites of the Ross Sea Region; ASPA 176—Rosenthal Islands, Anvers Island, Palmer Archipelago.

Dates of Permitted Activities: February 1, 2023-January 31, 2028.

Erika N. Davis,
Program Specialist, Office of Polar Programs.

[FR Doc. 2022-27743 Filed 12-20-22; 8:45 am]

BILLING CODE 7555-01-P